DEPARTMENT OF ENERGY

[GDO Docket No. EA-469-A]

Application for Renewal of Authorization To Export Electric Energy; Puget Sound Energy, Inc.

AGENCY: Grid Deployment Office, Department of Energy.

ACTION: Notice of application.

SUMMARY: Puget Sound Energy, Inc. (PSE or the Applicant) has applied for renewed authorization to transmit electric energy from the United States to Canada pursuant to the Federal Power Act.

DATES: Comments, protests, or motions to intervene must be submitted on or before July 5, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Delegation Order No. S1-DEL-S3-2023 and Redelegation Order No. S3-DEL-GD1-2023.

On May 3, 2019, DOE issued Order No. EA-469 authorizing PSE to transmit electric energy from the United States to Canada for a term of five (5) years. On April 5, 2024, PSE filed an Application (Application or App.) for renewal of its export authority for a ten-year term or for such other period as DOE deems appropriate. App. at 1, 5.

According to the Application, “PSE is a public utility within the meaning of the FPA and is incorporated in the State of Washington.” Id. at 2. The Applicant states it “provides electric and natural gas services in a service territory covering approximately 6,000 square miles in the Puget Sound region[.]” Id. PSE states that its retail and wholesale business includes “the generation, purchase, transmission, distribution, and sale of electric energy[.]” Id. Additionally, the Applicant represents that it “owns or controls a number of generation resources that are physically located in, or pseudo-tied into, the PSE BAA that are designated as participating resources in the [Energy Imbalance Market]” administered by the California Independent System Operator Corporation. Id. at 3. The Applicant represents that it is “authorized to sell energy, capacity, and ancillary services at market-based rates, and operates its transmission system pursuant to an Open Access Transmission Tariff (OATT) on file with the Federal Energy Regulatory Commission[.]” Id. at 2 (citation omitted). PSE asserts that its “proposed exports of electric energy will neither jeopardize the sufficiency of the electric supply nor the reliability of the transmission grid[.]” Id. at 3.

The existing international transmission facilities to be utilized by the Applicant have been previously authorized by Presidential permits issued pursuant to Executive Order 10485, as amended, and are appropriate for open access transmission by third parties. See App at Exhibit C.

Procedural Matters: Any person desiring to be heard in this proceeding should file a comment or protest to the Application at the email address provided previously. Protests should be filed in accordance with Rule 211 of FERC's Rules of Practice and Procedure (18 CFR 385.211). Any person desiring to become a party to this proceeding should file a motion to intervene at the previously provided email address in accordance with FERC Rule 214 (18 CFR 385.214).

Comments and other filings concerning PSE's Application should be clearly marked with GDO Docket No. EA-469-A. Additional copies are to be provided directly to Jason Kuzma, Puget Sound Energy, Inc., P.O. Box 97034, Bellevue, WA 98009-9734, jason.kuzma@pse.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on May 29, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 30, 2024.
Treena V. Garrett,
Federal Register Liaison Officer, U.S. Department of Energy.

[FR Doc. 2024-12187 Filed 6-3-24; 8:45 am]

BILLING CODE 6450-01-P